DEPARTMENT OF THE INTERIOR

Office of the Secretary

[189D0102DM/DS64600000/DLSN00000.000000/DX.64601]

Notice of Senior Executive Service Performance Review Board Appointments

AGENCY: Office of the Secretary, Interior.

ACTION: Notice.

SUMMARY: This notice provides the names of individuals who have been appointed to serve as members of the Department of the Interior Senior Executive Service (SES) Performance Review Board.

DATES: These appointments take effect upon publication in the Federal Register.

FOR FURTHER INFORMATION CONTACT: To request additional information about this notice, contact Mary Pletcher, Deputy Assistant Secretary—Human Capital and Diversity/Chief Human Capital Officer, by email at mary_pletcher@ios.doi.gov, or by telephone at (202) 208-4505.

SUPPLEMENTARY INFORMATION: The members of the Department of the Interior SES Performance Review Board are as follows:

ANDERSON, JAMES G.

ANGELLE, SCOTT A.

APPLEGATE, JAMES D. R.

ARAGON, JOSE RAMON

ARROYO, BRYAN

AUSTIN, STANLEY J.

AUSTIN, TERESA MADEYA

BAGLEY, TAMMY L.

BAIL, KRISTIN MARA

BATHRICK, MARK L.

BEALL, JAMES W.

BEARPAW, GEORGE WATIE

BECK, RICHARD T.

BENEDETTO, KATHLEEN M.

BENGE, SHAWN T.

BERRY, DAVID A.

BLACK, MICHAEL S.

BLANCHARD, MARY JOSIE

BOWKER, BRYAN L.

BOWRON, JESSICA L.

BRANUM, LISA A.

BROWN, LAURA B.

BROWN, WILLIAM Y.

BUCKNER, SHAWN M.

BURCH, MELVIN E.

BURCKMAN, JAMES N.

BURDEN, JOHN W.

BURNS, SYLVIA W.

CAMERON, SCOTT J.

CANTOR, HOWARD M.

CARDINALE, RICHARD T.

CARL, LEON M.

CASH, CASSIUS M.

CASON, JAMES E.

CELATA, MICHAEL A.

CLARK, HORACE G.

CLAYBORNE, ALFRED L.

CLINE, DONALD WALTER

COMPTON, JEFFREY S.

CONNELL, JAMIE E.

CORDOVA-HARRISON, ELIZABETH

CRAFF, ROBERT C.

CRIBLEY, BUD C.

CRUICKSHANK, WALTER D.

CRUZAN, DARREN A.

DARNELL, JOSEPH D.

DAVIS, KIMBRA G.

DAVIS, MARK H.

DAVIS, ROSE MARIE

DEARMAN, TONY L.

DEERINWATER, DANIEL J.

DEVARIS, AIMEE MARIE

DEVITO, VINCENT

DOWNS, BRUCE M.

DUMONTIER, DEBRA L.

DUTSCHKE, AMY L.

EDSALL, DONNA LYNN

ESTENOZ, SHANNON A.

ETHRIDGE, MAX M.

EWELL, AUSTIN B. III

FERRERO, RICHARD C.

FERRITER, OLIVIA B.

FLANAGAN, DENISE A.

FORD, JEROME E.

FRAZER, GARY D.

FREEMAN, SHAREE M.

FREIHAGE, JASON E.

FROST, HERBERT C.

FULP, TERRANCE J.

GALLAGHER, KEVIN T.

GIDNER, JEROLD L.

GLENN, DOUGLAS A.

GLOMB, STEPHEN J.

GOEKEN, RICHARD WILLIAM

GOKLANY, INDUR M.

GONZALES-SCHREINER, ROSEANN

GONZALEZ, MARIA E.

GOULD, GREGORY J.

GRAY, LORRI J.

GUERTIN, STEPHEN D.

HAMLEY, JEFFREY L.

HAMMOND, CASEY B.

HANNA, JEANETTE D.

HART, PAULA L.

HAUGRUD, KEVIN JACK

HAWBECKER, KAREN S.

HERBST, LARS T.

HILDEBRANDT, BETSY J.

HITZMAN, MURRAY WALTER

HOLMES, TROY EDWARD

HOMMEL, SCOTT C.

HOSKINS, DAVID WILLIAM

HUDSON, JODY LEE

HUMBERT, HARRY L.

HUNTER, TERESA R.

JAMES, JAMES D. JR.

JORJANI, DANIEL H.

JOSEPHSON, CLEMENTINE

JOSS, LAURA

KEABLE, EDWARD T.

KELLY, FRANCIS P.

KENDALL, JAMES J. JR.

KINSINGER, ANNE E.

KURTH, JAMES W.

LA COUNTE, DARRYL D. II

LAIRD, JOSHUA RADBILL

LAKE, TIMOTHY CHARLES

LAPOINTE, TIMOTHY L.

LAROCHE, DARRELL WILLIAM

LARRABEE, JASON G.

LEHNERTZ, CHRISTINE S.

LILLIE, JULIETTE ANNE FALKNER

LIMON, RAYMOND A.

LODGE, CYNTHIA LOUISE

LORDS, DOUGLAS A.

LOUDERMILK, WELDON B.

LUEBKE, THOMAS A.

LUEDERS, AMY L.

MABRY, SCOTT L.

MACGREGOR, KATHARINE S.

MAGALLANES, DOWNEY P.

MARTINEZ, CYNTHIA T.

MASICA, SUE E.

MAYTUBBY, BRUCE W.

MCALEAR, CHRISTOPHER J.

MCDOWALL, LENA E.

MCKEOWN, MATTHEW J.

MEHLHOFF, JOHN J.

MELIUS, THOMAS O.

MIHALIC, DAVID A.

MIKKELSEN, ALAN WAYNE

MORRIS, DOUGLAS W.

MOSS, ADRIANNE L.

MOURITSEN, KAREN E.

MULLER, BRUCE C. JR.

MURILLO, DAVID G.

MURPHY, TIMOTHY M.

NASSAR, JOSEPH W.

NEDD, MICHAEL D.

NGUYEN, NHIEN TONY

NOBLE, MICHAELA E.

NOWAKOWSKI, JUDY JENNIFER

OBERNESSER, RICHARD

OLSEN, MEGAN C.

ONEILL, KEITH JAMES

ORR, L. RENEE

ORTIZ, HANKIE P.

OWENS, GLENDA HUDSON

PALUMBO, DAVID M.

PAYNE, GRAYFORD F.

PEREZ, JEROME E.

PETERSON, PENNY LYNN

PFEIFFER, TAMARAH

PIERRE-LOUIS, ALESIA J.

PINTO, SHARON ANN

PLETCHER, MARY F.

PULA, NIKOLAO

QUINLAN, MARTIN J.

RAMOS, PEDRO M.

RAUCH, PAUL A.

REYNOLDS, MICHAEL T.

REYNOLDS, THOMAS G.

RHEES, BRENT B.

RICE, BRYAN C.

RICHARDSON, LIZETTE

RIDEOUT, STERLING J. JR.

RIGAS, LAURA C.

RIGGS, HELEN

ROBERSON, EDWIN L.

ROMANIK, PEG A.

ROSS, JOHN W.

RUGWELL, MARY J.

RUHS, JOHN F.

RYAN, MICHAEL J.

SALOTTI, CHRISTOPHER P.

SAUVAJOT, RAYMOND MARC

SAXE, KEITH E.

SCHNEIDER, MARGARET N.

SCHOCK, JAMES H.

SHEEHAN, DENISE E.

SHEEHAN, GREGORY JOHN

SHEPARD, ERIC N.

SHOLLY, CAMERON H.

SHOPE, THOMAS D.

SIEKANIEC, GREGORY EUGENE

SIMMONS, SHAYLA F.

SINGER, MICHELE F.

SKIPWITH, AURELIA

SLACK, JAMES J.

SMILEY, KARLA J.

SMITH, MARC ALAN

SOGGE, MARK K.

SOUZA, PAUL

SPEAKS, STANLEY M.

STEED, BRIAN C.

STEIGER, JOHN W.

STEVENS, BARTHOLOMEW S.

STEWARD, JAMES D.

STREATER, EDDIE R.

SUAZO, RAYMOND

TAHSUDA, JOHN III

THORSON, ROBYN

TODD, RAYMOND K.

TRAVNICEK, ANDREA J.

TUCKER, KAPRICE LYNCH

TUGGLE, BENJAMIN N.

TUPPER, MICHAEL H.

TYLER, PAUL GRAHAM

VELA, RAYMOND DAVID

VELASCO, JANINE M.

VIETZKE, GAY E.

VOGEL, ROBERT A.

WAINMAN, BARBARA W.

WALSH, NOREEN E.

WAYSON, THOMAS C.

WEBER, WENDI

WELCH, RUTH L.

WENGER, LANCE C.

WENK, DANIEL N.

WERKHEISER, WILLIAM H.

WEYERS, HOLLY S.

WHITE, JOHN ETHAN

WILLENS, TODD D.

WILLIAMS, L.C.

WILLIAMS, MARGARET C.

WOLF, ROBERT W.

WOODY, WILLIAM C.

WORONKA, THEODORE

WYNN, TODD M.

Authority: Title 5, U.S. Code, 4314(c)(4).

Mary Pletcher,
Deputy Assistant Secretary—Human Capital and Diversity, Chief Human Capital Officer.

[FR Doc. 2017-26279 Filed 12-5-17; 8:45 am]

BILLING CODE 4334-63-P